DEPARTMENT OF DEFENSE

Office of the Secretary

32 CFR Part 77

[Docket ID: DOD-2019-OS-0024]

RIN 0790-AK44

Program To Encourage Public and Community Service (PACS)

AGENCY: Under Secretary of Defense for Personnel and Readiness, DoD.

ACTION: Final rule.

SUMMARY: This final rule removes the Department of Defense (DoD) regulation concerning a program to encourage public and community service by separating/retiring Service members, and DoD civilian personnel leaving the Government, and encourages spouses to enter public and community service employment. The authorizing legislation for this program has been repealed. Therefore, this part is outdated and unnecessary and should be removed.

DATES: This rule is effective on March 12, 2019.

FOR FURTHER INFORMATION CONTACT: Ronald H. Horne, (703) 614-8631.

SUPPLEMENTARY INFORMATION: It has been determined that publication of this CFR part removal for public comment is impracticable, unnecessary, and contrary to public interest since it is based on removing obsolete information.

This part was originally published October 23, 1992, under 10 U.S.C. 1143a, and established a program to identify and encourage public and community service to separating DoD service members and civilians within the Office of the Secretary of Defense. The rule authorized DoD to counsel and create personnel registries for them to learn about community and public service employment prior to separation and retirement. It required public and community service organizations employers to register in an organizational registry to validate their eligibility. The Fiscal Year 2019 National Defense Authorization Act (Pub. L. 115-232), section 553 repealed this part's authorizing legislation.

This rule is not significant under Executive Order (E.O.) 12866, “Regulatory Planning and Review”; therefore, the requirements of E.O. 13771, “Reducing Regulation and Controlling Regulatory Costs” do not apply.

List of Subjects in 32 CFR Part 77

Employment, Government employees.

PART 77—[REMOVED]

Accordingly, by the authority of 5 U.S.C. 301, 32 CFR part 77, is removed.

Dated: March 7, 2019.
Aaron T. Siegel,
Alternate OSD Federal Register Liaison Officer, Department of Defense.

[FR Doc. 2019-04501 Filed 3-11-19; 8:45 am]

BILLING CODE 5001-06-P